DEPARTMENT OF VETERANS AFFAIRS

[OMB Control No. 2900-0108]

Agency Information Collection Activity Under OMB Review: Report of Income From Property or Business

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0108”.

FOR FURTHER INFORMATION CONTACT: Maribel Aponte, Office of Enterprise and Integration, Data Governance Analytics (008), 810 Vermont Ave. NW, Washington, DC 20420, (202) 266-4688 or email maribel.aponte@va.gov. Please refer to “OMB Control No. 2900-0108” in any correspondence.

SUPPLEMENTARY INFORMATION:

Authority: 38 U.S.C. 1521, 38 U.S.C. 1541, and 38 U.S.C. 1315.

Title: Report of Income from Property or Business.

OMB Control Number: 2900-0108.

Type of Review: Revision of a currently approved collection.

Abstract: VA Form 21P-4185 is primarily used to gather information that is necessary to determine a claimant's countable income received from rental property and/or operation of a business. Some expenses associated with rental property and business operations are deductible from the gross income received. Complete information about expenses and income is necessary to determine the net amount of income that is countable. The information is used to determine eligibility for VA benefits, and, if eligibility exists, the proper rate of payment. This is a revision of a currently approved collection as the respondent burden has decreased.

An agency may not conduct or sponsor, and a person is not required to respond to a collection of information unless it displays a currently valid OMB control number. The Federal Register Notice with a 60-day comment period soliciting comments on this collection of information was published at 89 FR 8522 on February 7, 2024, page 8522.

Affected Public: Individuals or Households.

Estimated Annual Burden: 640 hours.

Estimated Average Burden per Respondent: 30 minutes.

Frequency of Response: One time.

Estimated Number of Respondents: 1,280.

By direction of the Secretary.
Maribel Aponte,
VA PRA Clearance Officer, Office of Enterprise and Integration, Data Governance Analytics, Department of Veterans Affairs.

[FR Doc. 2024-07826 Filed 4-11-24; 8:45 am]

BILLING CODE 8320-01-P